DEPARTMENT OF DEFENSE

Department of the Army

Preparation of the Fort Bliss, TX and New Mexico, Mission Master Plan Supplemental Programmatic Environmental Impact Statement

AGENCY: Department of the Army, DOD.

ACTION: Notice of intent.

SUMMARY: This announces the intention of United States Army Installation Management Agency and the Fort Bliss Garrison Command to prepare a Supplemental Programmatic Environmental Impact Statement (SEIS) to analyze the impacts of land use changes in support of Army Transformation, the Army Campaign Plan, and other Army initiatives. The SEIS will supplement the Fort Bliss, Texas and New Mexico, Mission Master Plan Programmatic Environmental Impact Statement, for which a Record of Decision was signed in 2001. The proposed action will provide Fort Bliss with greater flexibility in planning and developing training missions and strategies in response to rapidly changing world conditions, Army Transformation initiatives, and long-term Army planning. The SEIS will evaluate land use changes in the Tularosa Basin portions of McGregor Range and the South Training Areas.

DATES: A Draft SEIS is scheduled for publication on or about June 2006 and a Final SEIS on or about December 2006.

ADDRESSES: Written comments should be forwarded to: John F. Barrera, Attn: SEIS; IMSW-BLS-Z; Fort Bliss, TX 79916-6812; or faxed to (915) 568-3548, or e-mailed at seis@bliss.army.mil.

FOR FURTHER INFORMATION CONTACT: Jean Offutt, Fort Bliss Public Affairs Office; ATZC-CGP; Fort Bliss, Texas, 79916-6812; Tel: (915) 568-4505.

SUPPLEMENTARY INFORMATION: The SEIS will assess the environmental impacts associated with Fort Bliss' response to Army Transformation initiatives and the Army Campaign Plan. Potential impacts or issues of Army Transformation at Fort Bliss were analyzed by the Department of the Army in the 2002 Programmatic EIS for Army Transformation. Implementation of these plans will results in changing land use designations within the Main Cantonment and Biggs Army Airfield, and the lower Tularosa Basin (below Otero Mesa) portions of McGregor Range and the South Training Areas. These changes would provide the capabilities to train additional units and allow off-road maneuvers on the Tularosa Basin portions of McGregor Range. Fort Bliss will maintain current mobilization missions and continue to support joint training objectives.

Besides the No Action Alternative (no change to land use designations and continuance at the current level of operations and activities), the proposed action alternatives will:

(1) Include those activities described in the No Action Alternative, plus changes land use to allow Mission Support Facilities in Training Area (TA) 1B, and off-road maneuver in TA 11, 25, and 29 thru 32; and increased air defense training on Otero Mesa;

(2) include actions of Alternative 1, plus changes land use to also allow off-road maneuvers in TA 10, 11, 29 and the Tularosa Basin portion of TA 12; and

(3) include actions of Alternative 2, plus changes land use to also allow off-road maneuvers and weapons firing in TA 24, 26 and 27.

The SEIS will include evaluation of each alternative's varying personnel and equipment requirements for range and maneuver training; supporting command, training and maintenance facilities, soldier and family housing, schools, infrastructure, utilities and related facilities. The SEIS will also analyze each alternative's impact upon the natural, cultural, and man-made environments in the west Texas and southern New Mexico region.

Tribes, Federal, state, and local agencies and the public are invited to participate in the scoping process for the preparation of this SEIS. Scoping meetings will be held in convenient locations near the installation. Notification of the times and locations for the scoping meetings will be published in local newspapers. The scoping process will help identify additional possible alternatives, potential environmental impacts, and key issues of concern to be analyzed in the SEIS. To ensure scoping comments are fully considered in the Draft EIS, comments and suggestions should be received within the 30-day scoping period or no later than 15 days following the last scoping meeting, whichever ends last.

Brenda S. Bowen,
Army Federal Register Liaison Officer.

[FR Doc. 05-22602 Filed 11-14-05; 8:45 am]

BILLING CODE 3710-08-M